DEPARTMENT OF COMMERCE

International Trade Administration

[A-580-809]

Circular Welded Non-Alloy Steel Pipe from the Republic of Korea; Rescission of Antidumping Duty Administrative Review

AGENCY: Import Administration, International Trade Administration, Department of Commerce.

ACTION: Notice of rescission of the antidumping duty administrative review.

SUMMARY: In response to November 30, 2000, requests by certain producers/exporters of circular welded non-alloy steel pipe from the Republic of Korea, the Department of Commerce initiated an administrative review of the antidumping duty order on circular welded non-alloy steel pipe from the Republic of Korea, covering the period November 1, 1999, through October 31, 2000. See, Notice of Initiation of Antidumping and Countervailing Administrative Reviews 65 FR 82322, (December 28, 2000). Based on timely withdrawals of the requests for review from these companies, we are rescinding this review in its entirety in accordance with section 351.213(d)(1) of our regulations.

EFFECTIVE DATE: February 21, 2001.

FOR FURTHER INFORMATION CONTACT: Greg Campbell or Suresh Maniam, AD/CVD Enforcement, Group I, Office 1, Import Administration, U.S. Department of Commerce, 14th Street and Constitution Avenue, NW., Washington, DC 20230; telephone: (202) 482-2239 and (202) 482-0176, respectively.

SUPPLEMENTARY INFORMATION:

Applicable Statute

Unless otherwise indicated, all citations to the statute are references to the provisions effective January 1, 1995, the effective date of the amendments made to the Tariff Act of 1930 (“the Act”) by the Uruguay Round Agreements Act. In addition, unless otherwise indicated, all citations to the Department of Commerce's (“Department”) regulations refer to 19 CFR part 351 (2000).

Background

On November 30, 2000, Shinho Steel Co., Ltd., SeAH Steel Corporation, and Hyundai Pipe Co., Ltd., producers/exporters of circular welded non-alloy steel pipe from the Republic of Korea, each requested administrative review of the subject merchandise for the period November 1, 1999 through October 31, 2000. In accordance with 19 CFR 351.221(c)(1)(i), the Department of Commerce published the initiation of an administrative review of the antidumping duty order. See, Notice of Initiation of Antidumping and Countervailing Administrative Reviews, 65 FR 82322, (December 28, 2000). On January 5, 2001, Shinho Steel Co., Ltd., withdrew its request for review. On January 19, 2001, Hyundai Pipe Co., Ltd. withdrew its request for review. On January 30, 2001, SeAH Steel Corporation withdrew its request for review.

Rescission of Review

The Department's regulations, at 19 CFR 351.213(d)(1), provide that the Department will rescind an administrative review if a party that requested the review withdraws the request within 90 days of the date of publication of the notice of initiation of the requested review. Since all parties requesting review withdrew their requests for an administrative review within the 90-day deadline, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: February 13, 2001.
Susan H. Kuhbach,
Acting Deputy Assistant Secretary for Import Administration.

[FR Doc. 01-4284 Filed 2-20-01; 8:45 am]

BILLING CODE 3510-DS-P